FEDERAL COMMUNICATIONS COMMISSION

47 CFR Part 73

[DA 05-31; MB Docket No. 04-249; RM-10998]

Radio Broadcasting Services; Benton and Yazoo City, MS

AGENCY: Federal Communications Commission.

ACTION: Final rule.

SUMMARY: This document at the request of SSR Communications, Inc., licensee of Station WYAB(FM), Yazoo City, Mississippi, reallotment Channel 226A from Yazoo City, Mississippi to Benton, Mississippi, as the community's first local transmission service, and modifies the license for Station WYAB(FM) to reflect the changes. See 69 FR 43552 (July 21, 2004). Channel 226A can be reallotted at Benton at a site 2.2 kilometers (1.4 mile) northwest of the community at coordinates 32-50-29 NL and 90-16-28 WL.

DATES: Effective February 25, 2005.

ADDRESSES: Secretary, Federal Communications Commission, 445 Twelfth Street, SW., Washington, DC 20554. In addition to filing comments with the FCC, interested parties should serve the petitioner as follows: Matthew K. Wesolowski, General Manager, SSR Communications, Incorporated, 5270 West Jones Bridge Road, Norcross, Georgia 30092-1628.

FOR FURTHER INFORMATION CONTACT: Victoria McCauley, Media Bureau, (202) 418-2180.

SUPPLEMENTARY INFORMATION: This is a synopsis of the Commission's Report and Order, MB Docket No. 04-249, adopted January 5, 2004, and released January 10, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com. The Commission will send a copy of this Report and Order in a report to be sent to Congress and the General Accountability Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Mississippi, is amended by adding Benton, Channel 226A, and by removing Channel 226A at Yazoo City.

Federal Communications Commission.
John A. Karousos,
Assistant Chief, Audio Division, Media Bureau.

[FR Doc. 05-1364 Filed 1-25-05; 8:45 am]

BILLING CODE 6712-01-P